DEPARTMENT OF HEALTH AND HUMAN SERVICES

Centers for Disease Control and Prevention

[30-Day-16-0841]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Management Information System for Comprehensive Cancer Control Programs (OMB No. 0920-0841, exp. 3/31/2016)—Revision—National Center for Chronic Disease Prevention and Health Promotion, Centers for Disease Control and Prevention (CDC).

Background and Brief Description

From 2007-2012, the Centers for Disease Control and Prevention (CDC) provided funding to all 50 states, the District of Columbia, seven tribes/tribal organizations, and seven territories/U.S. Pacific Island Jurisdictions through the National Cancer Prevention and Control Program (CDC Funding Opportunity Announcement [FOA] DP07-703). New five-year cooperative agreements were established in June 2012 under FOA DP12-1205 (“Cancer Prevention and Control Program for State, Territorial and Tribal Organizations”). From 2012-2015, a subset of 13 awardees received additional funding for demonstration programs to advance cancer control using policy, systems, and environmental change strategies.

Since 2010, cancer prevention and control (CPC) awardees have used an electronic management information system (MIS) to submit semi-annual progress reports to CDC (“Management Information System for Comprehensive Cancer Control Programs,” OMB No. 0920-0841, exp. 3/31/2016). The progress reports satisfy federal reporting requirements and allow CDC to provide targeted technical assistance to awardees while monitoring their activities and progress. The MIS also provides CDC with the capacity to respond in a timely manner to requests for information from the Department of Health and Human Services (HHS), Congress, and other sources.

CDC plans to request a revision of the current MIS-based reporting system. Minor modifications will be made to standardize and streamline data entry; for example, the open-ended text boxes previously used to develop objectives will be replaced with a drop-down menu of evidence-based indicators. The modifications will also make MIS entries and output more user-friendly for CDC staff who use the MIS to monitor and evaluate specific program outcomes. The search function will also be modified to search for these indicators.

All 65 DP12-1205 cancer prevention and control awardees will continue to submit semi-annual reports to CDC through the end of the cooperative agreement period. These reports include information about personnel, resources, finances, planning, action plans, and progress. Information will be submitted by the program director for the state, territory, or tribal cancer control program. Awardees will be responsible for verifying their current information and entering new objectives and progress. To minimize respondent burden, information that has not changed does not need to be re-entered into the MIS. The estimated burden for ongoing system maintenance and semi-annual reporting is being reduced from three hours per response to two hours per response.

CDC anticipates that DP12-1205 will be succeeded in 2017 by a new FOA based on similar objectives and a comparable monitoring and evaluation plan. The burden table includes an annualized, one-time allocation of two hours per response for initial population of the MIS with information that is specific to the new FOA. Due to annualization, this activity is represented in the table as 22 awardees instead of 65 awardees.

CDC is considering a change in the frequency of progress reporting, effective with the new FOA. Routine progress reporting is likely to occur once per year instead of twice per year, however, this decision has not been finalized. Therefore, to avoid under-estimating total annualized burden, the burden table has been constructed to account for semi-annual reporting throughout the 3-year clearance period. If a decision is made to change the frequency of reporting, CDC will process a Change Request or Revision Request, as needed, to adjust (reduce) total estimated annualized burden.

OMB approval will be requested for three years. The total estimated annualized burden for this reporting period will decrease due to a reduction in the estimated burden per response for semi-annual reporting; a reduction in the estimated burden per response for populating the MIS with information specific to the new FOA; and discontinuation of semi-annual reporting for demonstration of program activities.

Awardees are required to submit the requested information to CDC as a condition of funding. CDC will use the information submitted by awardees to identify training and technical assistance needs, monitor compliance with cooperative agreement requirements, evaluate progress made in achieving program-specific goals, and obtain information needed to respond to Congressional and other inquiries regarding program activities and effectiveness. All information will be collected electronically. There are no costs to respondents other than their time. The total estimated annualized burden hours are 304.

Estimated Annualized Burden Hours
Type of respondents | Form name | Number of respondents | Number of responses per respondent | Average burden per response (in hrs.)
Program Director for State-, Tribal-, or Territorial-based Cancer Prevention and Control Program | Data Elements for All CPC Programs: Semi-annual Reporting | 65 | 2 | 2
| Data Elements for All CPC Programs: Initial MIS Population for New FOA | 22 | 1 | 2

Leroy A. Richardson,
Chief, Information Collection Review Office, Office of Scientific Integrity, Office of the Associate Director for Science, Office of the Director, Centers for Disease Control and Prevention.

[FR Doc. 2016-04570 Filed 3-1-16; 8:45 am]

BILLING CODE 4163-18-P